DEPARTMENT OF JUSTICE

Notice of Lodging of Consent Decree Under the Comprehensive Environmental Response, Compensation, and Liability Act

Notice is hereby given that on February 27, 2008, a proposed Consent Decree was lodged with the United States District Court for the District of Massachusetts in United States v. Bayer CropScience Inc. et al., Civil Action No. 1:08-cv-10325-MLW.

In this action, the United States filed a complaint, under Sections 106, 107(a) and 113(g)(2) of the Comprehensive Environmental Response, Compensation, and Liability Act, 42 U.S.C. 9606, 9607(a), and 9613, alleging that Bayer CropScience Inc. and Pharmacia Corporation (“Settling Defendants”) are liable parties in connection with the Second Operable Unit at the Industri-plex Superfund Site (“Industri-plex OU2”), located in Woburn Massachusetts. At the same time as it filed its complaint, the United States lodged a proposed Consent Decree that resolves those claims and requires the Settling Defendants to (a) implement the remedy selected by EPA for Industri-Plex OU2 in a Record of Decision dated January 31, 2006, (b) pay EPA's future response costs in connection with the Consent Decree, and (c) make a payment to the United States in the amount of $6 million in reimbursement of past costs incurred in connection with Industri-plex OU2.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Bayer CropScience Inc., D.J. Ref. 90-11-2-228/6. Comments may also be submitted by e-mail to pubcomment-ees.enrd@usdoj.gov. A copy of the comments should also be sent to Donald Frankel, Trial Attorney, Environmental Enforcement Section, Department of Justice, Suite 616, One Gateway Center, Newton, MA 02458.

The Consent Decree may be examined at the Office of the United States Attorney, District of Massachusetts, U.S. Courthouse, Suite 9200, One Courthouse Way, Boston, MA 02210 (contact Bunker Henderson). During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $14.50 (25 cents per page reproduction cost, not including appendices) or $136.25 (25 cents per page reproduction costs, including appendices) payable to the U.S. Treasury (if the request is by fax or e-mail, forward a check to the Consent Decree library at the address stated above).

Ronald G. Gluck,
Assistant Section Chief, Environmental Enforcement Section, Environment and Natural Resources Division.

[FR Doc. E8-4112 Filed 3-3-08; 8:45 am]

BILLING CODE 4410-15-P